DEPARTMENT OF HEALTH AND HUMAN SERVICES

National Institutes of Health

National Institute of Child Health and Human Development; Notice of Meeting

Pursuant to section 10(a) of the Federal Advisory Committee Act, as amended (5 U.S.C. Appendix 2), notice is hereby given of a meeting of the National Children's Study Advisory Committee.

The meeting will be open to the public, with attendance limited to space available. Individuals who plan to attend and need special assistance, such as sign language interpretation or other reasonable accommodations, should notify the Contact Person listed below in advance of the meeting.

Name of Committee: National Children's Study Advisory Committee, Ethics Subcommittee.

Date: December 13, 2005.

Time: 9 a.m. to 11 a.m.

Agenda: Discussions will focus on the development of preliminary recommendations regarding the dissemination of Study findings to the public. For questions or to register please call Circle Solutions at (703) 902-1339 or via e-mail at ncs@circlesolutions.com. Registration deadline is noon on December 6, 2005.

Place: National Institutes of Health, 6100 Executive Boulevard, Room 5C01, Rockville, MD 20852. (Telephone Conference Call).

Contact Person: Marion Balsam, MD, Executive Secretary, National Children's Study Advisory Committee, 6100 Executive Boulevard, Bethesda, MD 20892. 301-594-9147.

This notice is being published less than 15 days prior to the meeting due to the timing limitations imposed by the review and funding cycle.

(Catalogue of Federal Domestic Assistance Program Nos. 93.864, Population Research; 93.865, Research for Mothers and Children; 93.929, Center for Medical Rehabilitation Research; 93.209, Contraception and Infertility Loan Repayment Program, National Institutes of Health, HHS)
Dated: November 21, 2005.
Nancy Middendorf,
Acting Director, Office of Federal Advisory Committee Policy.

[FR Doc. 05-23595 Filed 12-2-05; 8:45 am]

BILLING CODE 4140-01-M